DEPARTMENT OF ENERGY

Federal Energy Regulatory Commission

Combined Notice of Filings #1

Take notice that the Commission received the following electric corporate filings:

Docket Numbers: EC15-201-000.

Applicants: WF Investment Holdings, LLC, Wells Fargo Wind Holdings LLC.

Description: Application of WF Investment Holdings, LLC, et. al. for Authorization Under Section 203 of the Federal Power Act and Request for Waivers, Confidential Treatment, Expedited Consideration and Shortened Comment Period.

Filed Date: 9/3/15.

Accession Number: 20150903-5074.

Comments Due: 5 p.m. ET 9/24/15.

Take notice that the Commission received the following electric rate filings:

Docket Numbers: ER11-2777-005.

Applicants: Midcontinent Independent System Operator, Inc., Ameren Illinois Company.

Description: Compliance filing: 2015-09-02_Ameren WDS Compliance Filing to be effective 2/1/2015.

Filed Date: 9/2/15.

Accession Number: 20150902-5177.

Comments Due: 5 p.m. ET 9/23/15.

Docket Numbers: ER15-243-002.

Applicants: PJM Interconnection, L.L.C., The Dayton Power and Light Company.

Description: Compliance filing: Dayton submit Errata to ER15-243-001 to Correct Footnote 1 in Attachment H-15 to be effective 1/1/2015.

Filed Date: 9/2/15.

Accession Number: 20150902-5229.

Comments Due: 5 p.m. ET 9/23/15.

Docket Numbers: ER15-2363-001.

Applicants: Southwest Power Pool, Inc.

Description: Tariff Amendment: 3070 WAPA-UGP Market Participant Service Agreement to be effective 10/1/2015.

Filed Date: 9/2/15.

Accession Number: 20150902-5221.

Comments Due: 5 p.m. ET 9/23/15.

Docket Numbers: ER15-2593-001.

Applicants: Desert Stateline LLC.

Description: Tariff Amendment: Amendment to Application and Initial Baseline Tariff Filing to be effective 11/1/2015.

Filed Date: 9/2/15.

Accession Number: 20150902-5182.

Comments Due: 5 p.m. ET 9/23/15.

Docket Numbers: ER15-2601-000.

Applicants: Green Mountain Storage, LLC.

Description: Baseline eTariff Filing: Green Mountain Storage, LLC Application for MBR Authority to be effective 11/2/2015.

Filed Date: 9/2/15.

Accession Number: 20150902-5232.

Comments Due: 5 p.m. ET 9/23/15.

Docket Numbers: ER15-2602-000.

Applicants: Meyersdale Storage, LLC.

Description: Baseline eTariff Filing: Meyersdale Storage, LLC Application for MBR Authority to be effective 11/2/2015.

Filed Date: 9/2/15.

Accession Number: 20150902-5233.

Comments Due: 5 p.m. ET 9/23/15.

Docket Numbers: ER15-2603-000.

Applicants: Central Maine Power Company.

Description: Tariff Cancellation: Notice of Termination of Engineering & Procurement Agmt. with Atlantic Wind, LLC to be effective 11/2/2015.

Filed Date: 9/2/15.

Accession Number: 20150902-5234.

Comments Due: 5 p.m. ET 9/23/15.

Docket Numbers: ER15-2604-000.

Applicants: Parkview AMC Energy, LLC.

Description: Tariff Cancellation: Cancellation of MBR Tariff in its Entirety to be effective 9/3/2015.

Filed Date: 9/3/15.

Accession Number: 20150903-5049.

Comments Due: 5 p.m. ET 9/24/15.

Docket Numbers: ER15-2605-000.

Applicants: ISO New England Inc.

Description: Tariff Cancellation: Cancellation of CPV Towantic, LLC Large Generator Interconnection Agreement to be effective 11/1/2014.

Filed Date: 9/3/15.

Accession Number: 20150903-5061.

Comments Due: 5 p.m. ET 9/24/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 3, 2015.
Nathaniel J. Davis, Sr.,
Deputy Secretary.

[FR Doc. 2015-22807 Filed 9-9-15; 8:45 am]

BILLING CODE 6717-01-P